DEPARTMENT OF COMMERCE

National Oceanic and Atmospheric Administration

[I.D. 061002B]

Marine Mammals; Permit No. 782-1645-01

AGENCY: National Marine Fisheries Service (NMFS), National Oceanic and Atmospheric Administration (NOAA), Commerce.

ACTION: Issuance of permit amendment.

SUMMARY: Notice is hereby given that the National Marine Mammal Laboratory, Alaska Fisheries Science Center, 7600 Sand Point Way, N.E., BIN C15700, Seattle, WA 98115 (PI: Dr. Robert DeLong) has been issued an amendment to scientific research Permit No. 782-1645.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

FOR FURTHER INFORMATION CONTACT: Ruth Johnson or Carrie Hubard (301)713-2289.

SUPPLEMENTARY INFORMATION: On April 25, 2002, notice was published in the Federal Register (67 FR 20491) that an amendment of Permit No. 782-1645, issued September 4, 2001 (66 FR 47016), had been requested by the above-named organization. The requested amendment has been granted under the authority of the Marine Mammal Protection Act of 1972, as amended (16 U.S.C. 1361 et seq.), and the Regulations Governing the Taking and Importing of Marine Mammals (50 CFR part 216).

The Permit was amended to allow capture, tagging and sampling of Dall’s porpoise in Washington, Oregon and California waters.

Dated: June 21, 2002.
Trevor R. Spradlin,
Acting Chief, Permits, Conservation and Education Division, Office of Protected Resources, National Marine Fisheries Service.

[FR Doc. 02-16284 Filed 6-26-02; 8:45 am]

BILLING CODE 3510-22-S